DEPARTMENT OF AGRICULTURE

Cooperative State Research, Education, and Extension Service Notice of Intent To Revise a Currently Approved Information Collection

AGENCY: Cooperative State Research, Education, and Extension Service, USDA.

ACTION: Notice and request for comments.

SUMMARY: In accordance with Office of Management and Budget (OMB) regulations (5 CFR 1320) that implement the Paperwork Reduction Act of 1995 (44 U.S.C. Chapter 35), this notice announces the Cooperative State Research, Education, and Extension Service's (CSREES) intention to request approval for the revision of a currently approved information collection for the Expanded Food and Nutrition Education Program (EFNEP).

DATES: Written comments on this notice must be received by July 11, 2005 to be assured of consideration. Comments received after that date will be considered to the extent practicable.

ADDRESSES: Written comments concerning this notice and requests for copies of the information collection may be submitted by any of the following methods to Jason Hitchcock, eGovernment Program Leader, Information Systems and Technology Management; Mail: CSREES, USDA, STOP 2216, 1400 Independence Avenue, SW., Washington, DC 20250-2216; Hand Delivery/Courier: 800 9th Street, SW., Waterfront Centre, Washington, DC 20024; Fax: 202-720-0857; or E-mail: jhitchcock&csrees.usda.gov.

FOR FURTHER INFORMATION CONTACT: For further information and to request a copy of the information collection, call or write Jason Hitchcock, E-Government Leader, (202) 720-4343.

SUPPLEMENTARY INFORMATION: Title: 0524-0044.

OMB Number: 0524-0044.

Expiration Date of Current Approval: September 30, 2005.

Type of Request: Intent to seek approval for the revision of a currently approved information collection for three years.

Abstract: The USDA's CSREES Expanded Food and Nutrition Education Program (EFNEP) is a unique program that began in 1969 and is designed to reach limited resource audiences, especially youth and families with young children. Extension professionals train and supervise paraprofessionals and volunteers who teach food and nutrition information and skills to limited resources families and youth. EFNEP operates in all 50 states and in American Samoa, Guam, Micronesia, Northern Marianas, Puerto Rico, and the Virgin Islands.

The objectives of EFNEP are to assist limited resource families and youth in acquiring the knowledge, skills, attitudes, and changed behaviors necessary for nutritionally sound diets, and to contribute to their personal development and the improvement of the total family diet and nutritional well-being.

Since program inception, states have annually reported demographic and dietary behavior change of their EFNEP audience to the Federal Cooperative Extension Service EFNEP National Program Leader at CSREES. Through 1992, the reports were submitted on OMB approved forms, ES 255 and ES 256. The data gathered using these forms were of limited usefulness at the State and local level, and data quality was questionable.

The Evaluation/Reporting System (E/RS) was developed to capture the impacts of EFNEP. The purpose of this collection is to gauge if the federal assistance provided is having an impact on the target audience and enable CSREES staff to make programmatic improvements in its delivery of federal assistance. The data collected through E/RS also provides information for management purposes, provides diagnostic assessments of participant needs, and exports summary data for State and National assessment of the program's impact. The specifications for this system were developed by a committee of representatives from across the United States. E/RS is a database that stores information in the form of records about the program participants, their family structure and their dietary practices. The system is structured to collect data about adult participants, youth and youth group members, staff assignments, and hours worked. The E/RS consists of separate software sub-systems for the county, State, and Federal levels. Each county-level system accumulates data about individuals. This data is exported electronically to the State-level system. At the State level, participating university staff import the data and create State reports that are exported electronically to the Federal-level system. At the Federal level, the State compiled data lacks any personal information that may identify any of the participants. National reports are then created and made available to the public.

Revisions to the currently approved collection include complying with Federal regulations and standards for maintaining, collecting and presenting data on race and ethnicity. The system has also added an improved youth evaluation component. The dietary analysis component has been expanded to provide more foods and nutrients, and the system provides more output options. This provides expanded flexibility for State and local reports.

The evaluation processes of EFNEP remain consistent with the requirements of Congressional legislation and OMB. The Government Performance and Results Act (GPRA) of 1993 (Pub. L. 103-62), the Federal Activities Inventory Reform Act (FAIR) (Pub. L. 105-207), and the Agricultural, Research, Extension and Education Reform Act (AREERA) of 1998 (Pub. L. 105-185), together with OMB requirements, support the reporting requirements requested in this information collection. One of the five Presidential Management Agenda initiatives, Budget and Performance Integration, builds on GPRA and earlier efforts to identify program goals and performance measures, and link them to the budget process. The FAIR act requires the development and implementation of a system to monitor and evaluate agricultural research and extension activities in order to measure the impact and effectiveness of research, extension, and education programs. AREERA requires a performance evaluation to be conducted to determine whether federally funded agricultural research, extension, and education programs result in public goods that have national or multistate significance.

Estimate of Burden: Each year the state offices aggregate local electronic data into the State report, and transmit it electronically to CSREES. This requirement constitutes the federal burden CSREES imposes on the States and is the only burden measured and accounted for in this estimate. CSREES estimates that it takes one State or Territory 12 minutes to aggregate the local level information and export the summary information to CSREES. There are a total of 56 responses annually, thus constituting a total annual estimated burden of 11.2 hours for this information collection. The burden is small relative to the amount of information collected, because CSREES collects this information electronically and leverages information that State and local programs are currently collecting for the evaluation of their own activities.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

Done in Washington, DC, this 3rd day of May, 2005.
Joseph J. Jen,
Under Secretary, Research, Education, and Economics.

[FR Doc. 05-9345 Filed 5-10-05; 8:45 am]

BILLING CODE 3410-22-M